DEPARTMENT OF JUSTICE

National Institute of Corrections

Advisory Board Meeting

Time and Date: 8 a.m. to 4:30 p.m. on Monday, February 26, 2007. 8 a.m. to 4:30 p.m. on Tuesday, February 27, 2007.

Place: American Correctional Association, 206 North Washington Street, Suite 200, Alexandria, Virginia 22314, 1 (800) 222-5646.

Status: Open.

Matters to be Considered: Reports; Faith Based; Mental health; Prison Rape Elimination Act (PREA) Update; Agency reports; Quarterly Report by Office of Justice Programs.

Contact Person for More Information: Larry Solomon, Deputy Director, 202-307-3106, ext. 44254.

Morris L. Thigpen,
Director.

[FR Doc. 07-255 Filed 1-22-07; 8:45 am]

BILLING CODE 4410-30-M